DEPARTMENT OF COMMERCE

National Oceanic and Atmospheric Administration

50 CFR Part 648

[241112-0290; RTID 0648-XE416]

Revisions to Framework Adjustment 66 to the Northeast Multispecies Fishery Management Plan and Sector Annual Catch Entitlements; Updated Annual Catch Limits for Sectors and the Common Pool for Fishing Year 2024

AGENCY: National Marine Fisheries Service (NMFS), National Oceanic and Atmospheric Administration (NOAA), Commerce.

ACTION: Final rule; adjustment to specifications.

SUMMARY: Under the Magnuson-Stevens Fishery Conservation and Management Act (MSA), this final rule: adjusts the 2024 fishing year allocations to sectors and the common pool specified in Framework Adjustment 66 to the Northeast Multispecies Fishery Management Plan (Framework 66); makes minor adjustments to common pool limits based on final 2023 fishing year catch information; and distributes sector annual catch entitlements carried over from fishing year 2023 into fishing year 2024 as required by regulation. The revisions are necessary to account for changes to 2024 sub-annual catch limits based on final 2024 sector rosters and to respond to a 2023 overage of Gulf of Maine (GOM) cod in the common pool. These adjustments are routine and formulaic, aiming to ensure that final allocations are determined using the most reliable scientific information available.

DATES: Effective November 18, 2024, through April 30, 2025.

FOR FURTHER INFORMATION CONTACT: Anjali Bhardwaj, Fishery Management Specialist, (978) 281-9293.

SUPPLEMENTARY INFORMATION:

Background

Framework 66 was approved on May 2, 2024 (89 FR 35755), setting specifications for 8 of the 20 Northeast multispecies stocks including redfish, northern windowpane flounder, and southern windowpane flounder for fishing years 2024-2026; and Georges Bank (GB) cod, GB haddock, Gulf of Maine (GOM) haddock, GB yellowtail flounder, and white hake for fishing years 2024-2025. The framework also adjusted commercial management measures for Atlantic halibut and modified sea scallop accountability measure implementation for GB yellowtail flounder. These changes were made to prevent overfishing, ensure rebuilding, and help achieve optimal yield in the commercial and recreational groundfish fisheries. Framework 66 included preliminary allocations for sectors and the common pool based on the fishing year 2024 catch limits and preliminary sector rosters. A sector receives an allocation of each stock, or annual catch entitlement (ACE or allocation), based on the sum of its members' catch histories' and Potential Sector Contributions (PSC) as described at 50 CFR 648.87(b)(1)(i). State-operated permit banks in New Hampshire and Maine also receive an allocation that can be transferred to qualifying sector vessels. The sum of all sector and State-operated permit bank allocations is known as the sector sub-annual catch limit (sub-ACL). The remaining groundfish allocations after sectors and State-operated permit banks receive their allocations are subsequently allocated to the common pool (i.e., vessels not enrolled in a sector), which is referred to as the common pool sub-ACL.

The MSA at section 305(d) gives the Secretary of Commerce (Secretary) the authority and “responsibility to carry out any fishery management plan or amendment approved or prepared by him, in accordance with the provisions of this Act” (16 U.S.C. 1855(d)). The Secretary may promulgate such regulations as may be necessary to discharge such responsibility or to carry out any other provision of the MSA. The Secretary delegates this authority to NMFS. Using this authority, this rule adjusts the 2024 fishing year sector and common pool sub-ACLs and sector ACEs based on final sector rosters as of May 1, 2024. Permits enrolled in a sector and the vessels associated with those permits have until April 30, the last day before the beginning of a new fishing year, to withdraw from a sector and fish in the common pool. As a result, the actual sector enrollment for the new fishing year is unknown when the final specifications are published. Each year, NMFS subsequently publishes an adjustment rule modifying sector and common pool allocations based on final sector enrollment, ACE carryover each sector is allowed to bring in from the previous fishing year, and any ACL or sub-ACL overages that the fishery must mitigate under the accountability measures of the FMP through payback. The process of validating fishery catch from the previous fishing year is completed following the end of the fishing year (April 30), and it may take several months to complete and reconcile commercial data, receive of State fishery catch data and complete recreational fishing estimates. In the case of this adjustment rule, the 2023 fishing year information was finalized in early October 2024 and is the basis of the carryover and payback adjustments in the rule. The proposed and final rules for Framework 66 both explained that sector enrollments may change and that there would be a need to adjust the sub-ACLs and sector ACEs in accordance with the final rosters and the resulting sector PSCs. Table 1 shows the changes to the sub-ACLs between Framework 66 and this adjustment rule in metric tons (mt), and table 2 shows changes to the sub-ACLs between Framework 66 and this adjustment rule in pounds (lb). This action adjusts sub-ACLs and ACEs for the common pool and sectors, distributes unused sector quota carried over from fishing year 2023 to fishing year 2024, and revises the GOM cod common pool sub-ACL in response to an overage that occurred in fishing year 2023.

Table 1—Sub-ACL Comparison Between Framework 66 Final Rule and Adjustment Rule
[mt]
Stock | Final framework 66 sector sub-ACL | Final adjusted sector sub-ACL | Final framework 66 common pool sub-ACL | Final adjusted common pool sub-ACL
GB Cod East | 147 | 147 | 4 | 4
GB Cod West | 248 | 248 | 7 | 7
GOM Cod | 286 | 301 | 10 | 10
GB Haddock East | 3,028 | 3,027 | 72 | 73
GB Haddock West | 3,728 | 3,745 | 81 | 81
GOM Haddock | 1,479 | 1,538 | 30 | 31
GB Yellowtail Flounder | 55 | 55 | 3 | 3
SNE/MA Yellowtail Flounder | 27 | 27 | 8 | 8
CC/GOM Yellowtail Flounder | 881 | 879 | 39 | 44
American Plaice | 5,315 | 5,321 | 142 | 144
Witch Flounder | 1,163 | 1,165 | 41 | 41
GB Winter Flounder | 1,488 | 1,490 | 44 | 44
GOM Winter Flounder | 556 | 557 | 79 | 82
SNE/MA Winter Flounder | 408 | 411 | 53 | 53
Redfish | 8,226 | 8,320 | 77 | 77
White Hake | 1,905 | 1,906 | 18 | 18
Pollock | 12,696 | 12,702 | 122 | 123
N Windowpane Flounder | na | na | na | na
S Windowpane Flounder | na | na | na | na
Ocean Pout | na | na | na | na
Atlantic Halibut | na | na | na | na
Atlantic Wolffish | na | na | na | na
Final Adjusted Sector Sub-ACLs include changes from both finalized rosters and carryover.

Table 2—Sub-ACL Comparison Between Framework 66 Final Rule and Adjustment Rule
[lbs]
Stock | Final framework 66 sector sub-ACL | Final adjusted sector sub-ACL | Final framework 66 common pool sub-ACL | Final adjusted common pool sub-ACL
GB Cod East | 323 | 323 | 10 | 10
GB Cod West | 547 | 548 | 15 | 15
GOM Cod | 630 | 663 | 22 | 22
GB Haddock East | 6,675 | 6,674 | 159 | 160
GB Haddock West | 8,219 | 8,257 | 178 | 179
GOM Haddock | 3,260 | 3,391 | 67 | 68
GB Yellowtail Flounder | 120 | 120 | 7 | 7
SNE/MA Yellowtail Flounder | 60 | 60 | 17 | 17
CC/GOM Yellowtail Flounder | 1,943 | 1,937 | 87 | 97
American Plaice | 11,718 | 11,730 | 314 | 318
Witch Flounder | 2,564 | 2,567 | 90 | 91
GB Winter Flounder | 3,281 | 3,284 | 97 | 97
GOM Winter Flounder | 1,226 | 1,228 | 174 | 181
SNE/MA Winter Flounder | 899 | 905 | 117 | 117
Redfish | 18,135 | 18,143 | 170 | 170
White Hake | 4,201 | 4,203 | 40 | 40
Pollock | 27,990 | 28,003 | 269 | 270
N Windowpane Flounder | na | na | na | na
S Windowpane Flounder | na | na | na | na
Ocean Pout | na | na | na | na
Atlantic Halibut | na | na | na | na
Atlantic Wolffish | na | na | na | na
Final Adjusted Sector Sub-ACLs include changes from both finalized rosters and carryover.

2023 Correction to Sector Carryover

Sector regulations at 50 CFR 648.87(b) require NMFS to adjust ACE carryover to ensure that the total unused ACE combined with the overall sub-ACL does not exceed the acceptable biological catch (ABC) for the fishing year in which the carryover may be harvested. NMFS completed 2023 fishing year data reconciliation with sectors and determined final 2023 fishing year sector catch and the amount of allocation that sectors may carry over from the 2023 to the 2024 fishing year. A sector may carry over up to 10 percent of unused ACE for each stock, except in instances where the amount of unused ACE was reduced so as not to exceed the ABC. Accordingly, carryover for all stocks is capped by the ABC and reduced to a value below the full 10-percent of the original quota allocation from the fishing year 2023, consistent with carryover accounting requirements at 50 CFR 648.87. Complete details on carryover reduction percentages can be found at: https://www.greateratlantic.fisheries.noaa.gov/ro/fso/reports/h/groundfish_catch_accounting.

Table 3 includes the final amount of ACE that sectors may carry over from the 2023 to the 2024 fishing year. Table 4 includes the de minimis amount of carryover for each sector for the 2024 fishing year. If the overall ACL for any allocated stock is exceeded for the 2024 fishing year, the allowed carryover harvested by a sector, minus the pounds in the sector's de minimis amount, will be counted against its allocation to determine whether an overage subject to an accountability measure occurred. Table 5 lists the final ACE available to sectors and permit banks for the 2024 fishing year, based on final rosters and including finalized carryover amounts for each sector, as adjusted down when necessary to equal each stock's ABC.

BILLING CODE 3510-22-P

BILLING CODE 3510-22-C

Gulf of Maine Cod Common Pool Sub-Annual Catch Limit and Final ACLs for All Stocks

If the common pool sub-ACL for any stock is exceeded, 50 CFR 648.82(n)(2)(iii) requires reducing the common pool sub-ACL by the amount of the overage in the next fishing year. The fishing year 2023 common pool sub-ACL for GOM cod was exceeded by 0.3 mt. Therefore, this action reduces the fishing year 2024 GOM cod common pool sub-ACL by 0.3 mt resulting in a sub-ACL of 9.5 mt. The revised trimester total allowable catch (TAC) based on the overage deduction is provided in table 6. No other changes were made other than slight adjustments to sub-ACLs to account for final sector rosters.

Table 6—Initial and Revised Gulf of Maine Cod Trimester TACs
| Trimester 1 | Trimester 2 | Trimester 3
Allocation Percentage | 49% | 33% | 18%.
Initial Trimester TAC | 4.8 mt | 3.2 mt | 1.8 mt.
Revised Trimester TAC | 4.7 mt | 3.1 mt | 1.7 mt.

Classification

The NMFS Assistant Administrator has determined that this final rule is consistent with the Northeast Multispecies Fishery Management Plan, other provisions of the MSA, and other applicable law.

This action is exempt from the procedures of Executive Order 12866 because this action contains no implementing regulations.

Pursuant to 5 U.S.C. 553(b)(3)(B), NMFS finds good cause to waive prior public notice and opportunity for public comment on the catch limit and allocation adjustments because allowing time for notice and comment is impracticable, unnecessary, and contrary to the public interest. This adjustment process regularly occurs each year in accordance with directions to carry over unused catch that is added to, and deduct overages from, catch limits. These processes, described more specifically below, were subject to public notice and comment and set forth in regulations as noted throughout this action. The proposed and final rules for Framework 66 explained the need and likelihood for adjustments of sector and common pool allocations, because final sector rosters were not available before either the proposed or final rules were published (89 FR 20412; 89 FR 35755). As described in the Framework 66 final rule, NMFS calculates a sector's allocation for each stock by summing its members' PSC for the stock and then multiplying that total percentage by the commercial sub-ACL for that stock (89 FR 35755). No comments were received on the potential for carryover adjustments or the process for determining them, which provide an accurate accounting of a sector's or the common pool's allocation. These adjustments are routine and in accordance with specified carryover and sector (50 CFR 648.87(b)(1)) and common pool (50 CFR 648.82(n)(2)(iii)) accountability requirements based on final sector and common pool enrollment.

The process for determining carryover for sectors is described at 50 CFR 648.87(b)(1)(i)(C). With the exception of GB yellowtail flounder, a sector may carryover an amount of ACE equal to 10 percent of its original ACE for each stock that is unused at the end of one fishing year into the following fishing year, provided that the total unused sector ACE plus the overall ACL for the following fishing year does not exceed the ABC for the fishing year in which the carryover may be harvested. The process for determining the reduction to the overall sub-ACL in the common pool, due to an overage, is described at 50 CFR 648.82(n)(2)(iii). Following Trimester 3, uncaught portions of any trimester TAC for the common pool may not be carried over into the following fishing year. If the entire sub-ACL for a particular stock that is allocated to the common pool is exceeded, an amount equal to the overage shall be deducted from the sub-ACL for that stock that is allocated to common pool vessels for the following fishing year.

Thus, this action is expected by fishing industry participants and the public, as the public was made aware of how the sector pools and allocations would be adjusted during the notice and comment period for the Framework 66 rule. It provides sector and common pool vessels with catch limit information that reflects their actual final allocations, which will help ensure fishing industry participants operate with accurate information for planning and recordkeeping as the fishing year progresses and total catch increases. Additional catch available from carryover also is expected to provide more operational flexibility and financial benefit to the fishery participants.

Because advanced notice and the opportunity for public comment are not required for this action under the Administrative Procedure Act, or any other law, the analytical requirements of the Regulatory Flexibility Act, 5 U.S.C. 601, et seq., do not apply to this rule. Therefore, no new final regulatory flexibility analysis is required and none has been prepared.

Authority: 16 U.S.C. 1801 et seq.

Dated: November 13, 2024.
Samuel D. Rauch III,
Deputy Assistant Administrator for Regulatory Programs, National Marine Fisheries Service.

[FR Doc. 2024-26798 Filed 11-18-24; 8:45 am]

BILLING CODE 3510-22-P